DEPARTMENT OF COMMERCE

Foreign-Trade Zones Board

[S-48-2017]

Approval of Subzone Status; Premier Logistics, LLC; Tulsa, Oklahoma

On March 24, 2017, the Executive Secretary of the Foreign-Trade Zones (FTZ) Board docketed an application submitted by the City of Tulsa-Rogers County Port Authority, grantee of FTZ 53, requesting subzone status subject to the existing activation limit of FTZ 53, on behalf of Premier Logistics, LLC, in Tulsa, Oklahoma.

The application was processed in accordance with the FTZ Act and Regulations, including notice in the Federal Register inviting public comment (82 FR 15687, March 30, 2017). The FTZ staff examiner reviewed the application and determined that it meets the criteria for approval.

Pursuant to the authority delegated to the FTZ Board's Executive Secretary (15 CFR Sec. 400.36(f)), the application to establish Subzone 53C was approved on June 16, 2017, subject to the FTZ Act and the Board's regulations, including Section 400.13, and further subject to FTZ 53's 2,000-acre activation limit.

Dated: June 29, 2017.
Elizabeth Whiteman,
Acting Executive Secretary.

[FR Doc. 2017-14175 Filed 7-5-17; 8:45 am]

BILLING CODE 3510-DS-P